DEPARTMENT OF COMMERCE

National Oceanic and Atmospheric Administration

RIN 0648-XL67

Incidental Takes of Marine Mammals During Specified Activities; On-ice Marine Geophysical and Seismic Operations in State/OCS Waters of the U.S. Beaufort Sea off Alaska

AGENCY: National Marine Fisheries Service (NMFS), National Oceanic and Atmospheric Administration (NOAA), Commerce.

ACTION: Notice, withdrawal of an incidental take authorization application.

SUMMARY: Notice is hereby given that CGGVeritas Land, Inc. (Veritas) has withdrawn its application for an Incidental Harassment Authorization (IHA). The following action is related to a proposed IHA to Veritas for the take of small numbers of marine mammals, by Level B harassment only, incidental to conducting an on-ice marine geophysical research and seismic survey in the U.S. Beaufort Sea off Alaska from February to May, 2009.

ADDRESSES: The documents and the application related to this action are available by writing to P. Michael Payne, Chief, Permits, Conservation, and Education Division, Office of Protected Resources, National Marine Fisheries Service, 1315 East-West Highway, Silver Spring, MD 20910-3225, or by telephoning the contact listed here.

A copy of the application containing a list of the references used in this document may be obtained by writing to the address specified above, telephoning the contact listed below (see FOR FURTHER INFORMATION CONTACT), or online at: http://www.nmfs.noaa.gov/pr/permits/incidental.htm. Documents cited in this notice may be viewed, by appointment, during regular business hours, at the aforementioned address.

FOR FURTHER INFORMATION CONTACT: Howard Goldstein or Ken Hollingshead, NMFS, 301-713-2289.

SUPPLEMENTARY INFORMATION: On October 6, 2008, NMFS received an application from Veritas requesting an IHA. The requested IHA was for an authorization to take, by Level B harassment, small numbers of ringed seals (Phoca hispida) incidental to conducting on-ice seismic surveys, north and northwest of Thetis Island in State/OCS waters in the Beaufort Sea. On February 9, 2008, NMFS accepted notice from Veritas withdrawing their IHA application for the proposed action. During a recent aerial survey, Veritas found that unsafe ice conditions were present and concluded that such conditions are unsuitable for the on-ice seismic survey operations presented in the IHA application package. The energy source for the proposed activity was Vibroseis. Data acquisition would have begun mid-February and continued until the end of May.

Dated: February 11, 2009.
James H. Lecky,
Director, Office of Protected Resources, National Marine Fisheries Service.

[FR Doc. E9-3419 Filed 2-17-09; 8:45 am]

BILLING CODE 3510-22-S